ENVIRONMENTAL PROTECTION AGENCY

[FRL-11932-01-R5]

Request for Nominations to the Great Lakes Advisory Board

AGENCY: Environmental Protection Agency (EPA).

ACTION: Notice of request for nominations.

SUMMARY: The U.S. Environmental Protection Agency (EPA) invites nominations from a diverse range of qualified candidates who desire to serve as members of EPA's Great Lakes Advisory Board (GLAB). The GLAB is chartered to provide advice and recommendations to the EPA Administrator, through the Great Lakes National Program Manager, on matters related to the Great Lakes Restoration Initiative and on domestic matters related to the implementation of the Great Lakes Water Quality Agreement between the U.S. and Canada. For appointment consideration, nominations should be submitted by July 30, 2024. Sources in addition to this Federal Register notice may also be utilized in the solicitation of nominees.

FOR FURTHER INFORMATION CONTACT: Alana Davicino, Designated Federal Officer, Great Lakes National Program Office, U.S. Environmental Protection Agency, 77 West Jackson Boulevard, (G-9J), Chicago, Illinois; telephone number: 312-886-2307, email address: davicino.alana@epa.gov.

SUPPLEMENTARY INFORMATION:

Background: The GLAB was established in accordance with the Federal Advisory Committee Act (FACA) of 1972 (5 U.S.C., 10) and 41 CFR 102-3.50(d). The board will provide advice and recommendations on matters related to the Great Lakes Restoration Initiative. The board will also advise on domestic matters related to implementation of the Great Lakes Water Quality Agreement between the U.S. and Canada.

The major objectives will be to provide advice and recommendations on:

a. Great Lakes protection and restoration activities;

b. Long term goals, objectives, and priorities for Great Lakes protection and restoration; and

c. Other issues identified by the Great Lakes Interagency Task Force/Regional Working Group.

The GLAB is expected to meet in person or by electronic means (e.g., telephone, videoconference, webcast, etc.) approximately two (2) times per year, or as otherwise needed and approved by the Designated Federal Officer. In-person meetings will be held in the Great Lakes region.

Nominations: The GLAB will be composed of approximately fifteen (15) members who will serve as representative members of non-Federal interests. In selecting members, EPA will consider candidates representing a broad range of Great Lakes stakeholders, including, but not limited to: Environmental groups; agricultural groups; industry and/or business groups; citizen groups; environmental justice groups; foundations; academia; and State, local and Tribal governments. In selecting members, EPA will consider the differing perspectives and breadth of collective experience needed to address the GLAB's charter. Other criteria used to evaluate nominees will include:

• Experience with Great Lakes issues;

• Leadership and consensus-building experience in Great Lakes organizations, businesses, and workgroups;

• Membership in professional societies involved with Great Lakes issues;

• Academic leadership and expertise;

• Community leadership; and

• Representation of multiple constituencies within the Great Lakes basin.

GLAB is a Federal advisory committee chartered under the Federal Advisory Committee Act, Public Law 92-463. Members serve on the committee in a voluntary capacity. Although we are unable to offer compensation or an honorarium, members may receive travel and per diem allowances, according to applicable Federal travel regulations and the agency's budget.

According to the mandates of FACA, committees are required to support diversity across a broad range of constituencies, sectors, and groups. In accordance with Executive Order 14035 (June 25, 2021) and consistent with law, EPA values and welcomes opportunities to increase diversity, equity, inclusion, and accessibility on its Federal advisory committees. EPA's Federal advisory committees strive to have a workforce that reflects the diversity of the American people.

How to Submit Nominations: Any interested person or organization may nominate qualified persons to be considered for appointment to the GLAB. Individuals may self-nominate. For appointment consideration, interested nominees should submit the application materials electronically via email to davicino.alana@epa.gov with the subject line “GLAB Nominations 2024”.

To be considered, nominations should include:

• Current contact information for the nominee, including the nominee's name, organization (and position within that organization), current business address, email address and daytime phone number;

• A brief statement describing the nominee's interest in serving on the GLAB;

• A resume and a short biography (no more than two paragraphs) describing the professional and educational qualifications of the nominee, including a list of relevant activities and any current or previous service on Federal advisory committees; and

• A description of the nominee's EPA grant funding history including current EPA grant activities if applicable. If this does not apply to the nominee, please provide a brief statement indicating so.

• Optional: Letter(s) of recommendation from a third party supporting the nomination. Letter(s) should describe how the nominee's experience and knowledge will bring value to the work of the GLAB.

To help the Agency evaluate the effectiveness of its outreach efforts, nominees are requested to use their submission packages to identify how they became aware of this request for nominations.

Dated: May 29, 2024.
Debra Shore,
Regional Administrator, Region 5.

[FR Doc. 2024-13203 Filed 6-17-24; 8:45 am]

BILLING CODE 6560-50-P